DEPARTMENT OF AGRICULTURE

Forest Service

Memorandum of Understanding Between the Forest Service, U.S. Department of Agriculture and the U.S. Fish and Wildlife Service To Promote the Conservation of Migratory Birds

AGENCY: Forest Service, USDA.

ACTION: Notice of availability.

SUMMARY: This notice is to inform the public of a Memorandum of Understanding (MOU) between the Forest Service, U.S. Department of Agriculture, and the U.S. Fish and Wildlife Service, signed December 8, 2008, to promote the conservation of migratory birds. Pursuant to Executive Order (E.O.) 13186 (January 17, 2001), “Responsibilities of Federal Agencies to Protect Migratory Birds,” this MOU outlines a collaborative approach to promote the conservation of migratory bird populations. It does not authorize the “take” of migratory birds. Take, as defined in 50 CFR 10.12 regarding all wildlife and plants, means to pursue, hunt, shoot, wound, kill, trap, capture, or collect, or attempt to pursue, hunt, shoot, wound, kill, trap, capture, or collect. This MOU identifies specific activities where cooperation between the Parties will contribute substantially to the conservation of migratory birds and their habitats.

The complete text of the MOU is available at http://www.fs.fed.us/biology/resources/pubs/mou_moa.html.

DATES: This notice is effective February 13, 2009. The MOU went into effect December 8, 2008, and shall remain in effect for a period of five years.

FOR FURTHER INFORMATION CONTACT: Anne Zimmermann, USDA Forest Service, Director of Watershed, Fish, and Wildlife, Mailstop 1121, 201 14th St., SW., Washington, DC 20024.

Individuals who use telecommunication devices for the deaf (TDD) may call the Federal Information Relay Service (FIRS) at 1-800-877-8339 between 8 a.m. and 8 p.m., Eastern Standard Time, Monday through Friday.

SUPPLEMENTARY INFORMATION: On January 10, 2001, President Clinton signed E.O. 13186, which described the responsibilities of federal agencies to protect migratory birds. One of the requirements of E.O. 13186 is that “Each Federal agency taking actions that have, or are likely to have, a measurable negative effect on migratory bird populations is directed to develop and implement * * * a Memorandum of Understanding with the Fish and Wildlife Service that shall promote the conservation of migratory bird populations.” Section 3(g) of the E.O. states that “Each agency shall advise the public of the availability of its MOU through a notice published in the Federal Register.” This notice fulfills the requirements of Section 3(g) of E.O. 13186. The E.O. is posted at http://ceq.hss.doe.gov/nepa/regs/eos/eo13186.html.

Dated: February 9, 2009.
Gloria Manning,
Associate Deputy Chief, National Forest System.

[FR Doc. E9-3118 Filed 2-12-09; 8:45 am]

BILLING CODE 3410-11-P